DEPARTMENT OF ENERGY

Federal Energy Regulatory Commission

Combined Notice of Filings #1

Take notice that the Commission received the following electric rate filings:

Docket Numbers: ER10-1852-078; ER10-2641-045.

Applicants: Oleander Power Project, Limited Partnership, Florida Power & Light Company.

Description: Notice of Change in Status of Florida Power & Light Company, et al.

Filed Date: 4/20/23.

Accession Number: 20230420-5252.

Comment Date: 5 p.m. ET 5/11/23.

Docket Numbers: ER18-2418-008.

Applicants: Great River Hydro, LLC.

Description: Notice of Non-Material Change in Status of Great River Hydro, LLC.

Filed Date: 4/24/23.

Accession Number: 20230424-5282.

Comment Date: 5 p.m. ET 5/15/23.

Docket Numbers: ER23-1277-000.

Applicants: Aron Energy Prepay 23 LLC.

Description: Supplement to Aron Energy Prepay 23 LLC submits tariff filing per 35.12: Baseline new to be effective 5/9/2023.

Filed Date: 3/28/23.

Accession Number: 20230328-5303.

Comment Date: 5 p.m. ET 5/5/23.

Docket Numbers: ER23-1700-000.

Applicants: PJM Interconnection, L.L.C.

Description: § 205(d) Rate Filing: Update Default Gross Cost of New Entry & Default Gross Avoidable Cost Rate to be effective 6/23/2023.

Filed Date: 4/24/23.

Accession Number: 20230424-5203.

Comment Date: 5 p.m. ET 5/15/23.

Docket Numbers: ER23-1701-000.

Applicants: PacifiCorp.

Description: § 205(d) Rate Filing: Tri-State Master Installation, O&M Agmt for Metering (Rev 5) to be effective 6/25/2023.

Filed Date: 4/25/23.

Accession Number: 20230425-5091.

Comment Date: 5 p.m. ET 5/16/23.

Docket Numbers: ER23-1702-000.

Applicants: Alabama Power Company, Georgia Power Company, Mississippi Power Company.

Description: Tariff Amendment: Alabama Power Company submits tariff filing per 35.15: Columbiana PV II LGIA Termination Filing to be effective 4/25/2023.

Filed Date: 4/25/23.

Accession Number: 20230425-5144.

Comment Date: 5 p.m. ET 5/16/23.

Docket Numbers: ER23-1703-000.

Applicants: Stanton Battery Energy Storage, LLC.

Description: Baseline eTariff Filing: Application for Market Based Rate Authority to be effective 6/5/2023.

Filed Date: 4/25/23.

Accession Number: 20230425-5174.

Comment Date: 5 p.m. ET 5/16/23.

Docket Numbers: ER23-1704-000.

Applicants: WGP Redwood Holdings, LLC.

Description: § 205(d) Rate Filing: Updated Market Based Rate Tariff to be effective 4/26/2023.

Filed Date: 4/25/23.

Accession Number: 20230425-5176.

Comment Date: 5 p.m. ET 5/16/23.

Docket Numbers: ER23-1705-000.

Applicants: PJM Interconnection, L.L.C.

Description: § 205(d) Rate Filing: Original NSA, Service Agreement No. 6884; Queue No. AC1-074/AC2-075 to be effective 6/26/2023.

Filed Date: 4/25/23.

Accession Number: 20230425-5191.

Comment Date: 5 p.m. ET 5/16/23.

Docket Numbers: ER23-1706-000.

Applicants: PJM Interconnection, L.L.C.

Description: § 205(d) Rate Filing: Original NSA, SA No. 6869; Queue No. AE2-071/AF1-203 to be effective 4/26/2023.

Filed Date: 4/25/23.

Accession Number: 20230425-5192.

Comment Date: 5 p.m. ET 5/16/23.

Docket Numbers: ER23-1707-000.

Applicants: PJM Interconnection, L.L.C.

Description: § 205(d) Rate Filing: Amendment to ISA, Service Agreement No. 6436; Queue No. AE2-224 to be effective 6/26/2023.

Filed Date: 4/25/23.

Accession Number: 20230425-5197.

Comment Date: 5 p.m. ET 5/16/23.

Docket Numbers: ER23-1708-000.

Applicants: Florida Power & Light Company.

Description: § 205(d) Rate Filing: FPL 2021 True-Up Revisions to Appendix B of Rate Schedule No. 317 to be effective 1/1/2021.

Filed Date: 4/25/23.

Accession Number: 20230425-5229.

Comment Date: 5 p.m. ET 5/16/23.

Docket Numbers: ER23-1709-000.

Applicants: Florida Power & Light Company.

Description: § 205(d) Rate Filing: FPL 2021 True-Up Revisions to Appendix B of Rate Schedule No. 322 to be effective 1/1/2021.

Filed Date: 4/25/23.

Accession Number: 20230425-5231.

Comment Date: 5 p.m. ET 5/16/23.

Docket Numbers: ER23-1710-000.

Applicants: El Paso Electric Company.

Description: § 205(d) Rate Filing: Concurrence of EPE to APS Service Agreement No. 387, Sonoran Solar Energy to be effective 5/7/2023.

Filed Date: 4/25/23.

Accession Number: 20230425-5265.

Comment Date: 5 p.m. ET 5/16/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2023.
Debbie-Anne A. Reese,
Deputy Secretary.

[FR Doc. 2023-09132 Filed 4-28-23; 8:45 am]

BILLING CODE 6717-01-P